DEPARTMENT OF STATE

[Public Notice 12416]

30-Day Notice of Proposed Information Collection: Reta Jo Lewis Local Diplomat Program—City Applications

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to June 24, 2024.

ADDRESSES: Written comments and recommendations for the proposed information collection should be sent within 30 days of publication of this notice to www.reginfo.gov/public/do/PRAMain. Find this particular information collection by selecting “Currently under 30-day Review—Open for Public Comments” or by using the search function.

• Email: subnational@state.gov.

• You must include the DS form number (if applicable), information collection title, and the OMB control number in any correspondence.

FOR FURTHER INFORMATION CONTACT: Direct requests for additional information regarding the collection listed in this notice, including requests for copies of the proposed collection instrument and supporting documents, to Hazel Castillo, who may be reached on 202-647-2615 or at subnational@state.gov.

SUPPLEMENTARY INFORMATION:

• Title of Information Collection: Reta Jo Lewis Local Diplomat Program—Local Offices Application.

• OMB Control Number: 1405-XXXX.

• Type of Request: New Collection.

• Originating Office: E/SDU.

• Form Number: DS-4320.

• Respondents: Local government offices, including city, State, and county offices.

• Estimated Number of Respondents: 2,000.

• Estimated Number of Responses: 2,000.

• Average Time per Response: 0.5 hours.

• Total Estimated Burden Time: 1,000 hours.

• Frequency: Once.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Subnational Diplomacy Unit under the Department runs the Reta Jo Lewis Local Diplomat Program, which details a Foreign Service Officer or Civil Service employee to a local office, including a city, State, or county, for a year. The selection of local offices for this program must be competitive to provide a fair opportunity to all local offices that are interested in participating in the program. Therefore, to select local offices to participate in the program, the Subnational Diplomacy Unit must collect applications from local offices interested in the program.

Methodology

The form will be emailed to local governments. After completion by the local governments, the form will be submitted via Microsoft Forms to the Department.

Daniel J. Ricchetti,
Deputy Special Representative for City and State Diplomacy, Subnational Diplomacy Unit, Department of State.

[FR Doc. 2024-11435 Filed 5-23-24; 8:45 am]

BILLING CODE 4710-AE-P